FEDERAL COMMUNICATIONS COMMISSION

47 CFR Part 73

[MB Docket No. 04-256; DA 04-2996]

Attribution of Joint Sales Agreements in Local Television Markets; Extension of Comment Period

AGENCY: Federal Communications Commission.

ACTION: Proposed rule, extension of comment period.

SUMMARY: In this document, the Media Bureau extends the period for comment and reply comments in the Attribution of Joint Sales Agreements in Local Television Markets proceeding. The proposed rule seeks comment on whether to attribute certain TV Joint Sales Agreements for purposes of applying the broadcast ownership rules. The deadline to file comments is extended from September 27, 2004, to October 27, 2004, and the deadline to file reply comments is extended from October 12, 2004, to November 30, 2004. The action is taken to respond to a Request for Extension of Time, and a Statement in Support of Request for Extension of Time, and a Statement in Support of Request for Extension of Time.

DATES: Comments are due on or before October 27, 2004, and reply comments are due on or before November 30, 2004.

ADDRESSES: Federal Communications Commission, Portals II, 445 12th Street, SW., Washington, DC 20554.

FOR FURTHER INFORMATION CONTACT: Debra Sabourin, Industry Analysis Division, Media Bureau, (202) 418-2330 or Debra.Sabourin@fcc.gov.

SUPPLEMENTARY INFORMATION: This is a synopsis of the Commission's Order, DA-04-2996, in MB Docket No. 04-256, released on September 16, 2004. The full text of this Order is available for inspection and copying during regular business hours in the FCC Reference Center, 445 Twelfth Street, SW., Room CY-A257, Portals II, Washington, DC 20554, and may also be purchased from the Commission's copy contractor, Best Company and Printing, Inc., Room CY-B402, telephone (800) 378-3160, http://www.bcpiweb.com. To request materials in accessible formats for people with disabilities (electronic files, large print, audio format and Braille), send an e-mail to fcc504@fcc.gov or call the Consumer & Governmental Affairs Bureau at (202) 418-0531 (voice), 418-7365 (TTY).

On August 2, 2004, the Media Bureau (“Bureau”) released a Notice of Proposed Rule Making (“NPRM”) seeking comment on whether to attribute certain TV Joint Sales Agreements (“JSAs”) for purposes of applying the broadcast ownership rules. On August 26, 2004, a summary of the Notice was published in the Federal Register, establishing deadlines for the filing of comments and reply comments of September 27, 2004, and October 12, 2004, respectively. (Rules and Policies Concerning Attribution of Joint Sales Agreements in Local Television Markets, 69 FR 52464, August 26, 2004).

On September 13, 2004, Paxson Communications Corporation (“Paxson”) filed a Request for Extension of Time to file comments and reply comments. Paxson asks that the deadline for filing comments be extended to October 27, 2004, and the deadline for filing reply comments be extended to November 30, 2004. It asserts that, as owner and operator of 61 full power television stations and owner of the PaxTV broadcast network, it is party to a large number of JSAs. Paxson notes that the Commission asked parties to JSAs to gather and provide information concerning the terms and conditions of those JSAs, as well as their public interest benefits. Paxson says it needs more time to prepare its comments and respond to the factual and legal issues raised in this proceeding given the number of other open Commission proceedings on broadcasting in which it is involved. According to Paxson, an extension will enable it to prepare and present a more thorough factual record and analysis of the legal issues in this proceeding. On September 14, 2004, the National Association of Broadcasters (“NAB”) filed a “Statement in Support of Request for Extension of Time” in support of Paxson's motion for the same reasons, arguing that an extension will serve the public interest by allowing for a more complete record.

We conclude that Paxson and NAB have stated good cause to justify granting an extension of the deadlines for the filing of comments and reply comments in this proceeding. Granting the extensions will serve the public interest in gathering a full record on the factual and legal issues raised in the Notice, including the information sought on the terms and conditions of existing TV JSAs. The new deadline to file comments will be October 27, 2004, and the new deadline to file reply comments will be November 30, 2004.

Federal Communications Commission.
Thomas L. Horan,
Legal Advisor, Media Bureau.

[FR Doc. 04-21504 Filed 9-23-04; 8:45 am]

BILLING CODE 6712-01-P